DEPARTMENT OF THE INTERIOR

Fish and Wildlife Service

[FWS-R4-R-2016-N141; FF04RKCL00-167-FXRS12610400000]

Amenity Fees at Clarks River National Wildlife Refuge, KY

AGENCY: Fish and Wildlife Service, Interior.

ACTION: Notice of intent to implement fees.

SUMMARY: We, the U.S. Fish and Wildlife Service (Service), announce our intent to implement amenity fees at Clarks River National Wildlife Refuge (Refuge), located in Kentucky, as authorized by the Federal Lands Recreation Enhancement Act (REA). We will implement annual hunting and fishing fees and special permit fees for commercial recreational activities. Under REA provisions, the Refuge will identify and post the specific fees.

DATES: Submit your written comments on this action no later than February 20, 2018. Please make your comments as specific as possible and explain the basis for them. In addition, please include sufficient information with your comments to allow us to authenticate any scientific or commercial data you reference or provide. Such information may lead to a final decision that differs from this proposal.

Unless we publish a notice in the Federal Register withdrawing this action, we will implement the amenity fees on February 20, 2018.

ADDRESSES: Submit your comments by one of the following methods:

• U.S. mail: U.S. Fish and Wildlife Service, Attn. Project Leader, P.O. Box 89, Benton, KY 42025.

• Fax: (270) 527-5052.

• Email: clarks_river@fws.gov.

FOR FURTHER INFORMATION CONTACT: Michael Johnson, at (270) 527-5770.

SUPPLEMENTARY INFORMATION:

Introduction

We, the U.S. Fish and Wildlife Service (Service), announce our intent to implement amenity fees at Clarks River National Wildlife Refuge (Refuge), located in Kentucky, as authorized by the Federal Lands Recreation Enhancement Act (16 U.S.C. 6801-6814; REA). Under REA provisions, the Refuge will identify and post the specific fees.

Planned Fees

Under section 3 of the REA, we will implement the following fees at the Refuge:

• A $15 annual hunting and fishing permit for adults, and a $5.00 annual hunting and fishing permit for seniors. There is no fee for youth under the age of 16.

• A minimum of $50 annual recreational special use permit for commercial recreational activities.

These permits will not only allow the Refuge to better track visitor numbers and usage of the Refuge and harvest data, but will also provide the Refuge with fees to be used to offset expenses for road and parking lot maintenance, boundary maintenance, brochures, public education programs, law enforcement salaries, and expansion/improvements of visitor amenities. It is our policy to allow only activities that are appropriate and compatible with the Refuge's purposes.

Background

In accordance with regulations governing the National Wildlife Refuge System (50 CFR part 25, subpart E) a Refuge may implement fees and other reasonable charges for public recreational use of lands administered by that Refuge. When considering fees, a Refuge is required by our regulations to evaluate the following:

• The direct and indirect cost to the Government;

• The benefits to a permit holder;

• The public interest served;

• Comparable fees charged by non-Federal public agencies; and

• The economic and administrative feasibility of fee collection.

The National Wildlife Refuge Administration Act of 1966 (16 U.S.C. 668dd-668ee) (Refuge Administration Act), as amended by the National Wildlife Refuge Improvement Act of 1997, allows National Wildlife Refuges to provide wildlife-dependent recreation to visitors, but these laws require Refuges to manage for the conservation of fish, wildlife, and habitat for present as well as future generations of Americans. To fulfill the obligations, the Refuge plans to use collected fees to defray costs associated with visitor amenities.

Public Availability of Comments

Before including your address, phone number, email address, or other personal identifying information in your comment, you should be aware that your entire comment—including your personal identifying information—may be made publicly available at any time. While you can ask us in your comment to withhold your personal identifying information from public review, we cannot guarantee that we will be able to do so.

Federal Lands Recreation Enhancement Act Authorities and Requirements

In December 2004, the REA became law (16 U.S.C. 6801-6814). The REA provides authority for the Secretaries of the Department of the Interior and Agriculture to establish, modify, charge, and collect recreation fees for use of some Federal recreation lands and waters, and contains specific provisions addressing public involvement in the establishment of recreation fees. The REA also directs the Secretaries of the Departments of the Interior and Agriculture to publish advance notice in the Federal Register whenever bureaus establish new recreation fee areas under their respective jurisdictions.

Next Steps

Should public comment provide substantive reasons why we should not implement the proposed fee program at the Refuge, we may reevaluate our plan and publish a subsequent notice in the Federal Register withdrawing this action. Otherwise, we will implement the proposed fee program at the Clarks River National Wildlife Refuge on the date specified in the DATES section of this document, and the Refuge will post fee amounts and expenditures onsite.

Authority: 16 U.S.C. 6801-6814.

Dated: May 3, 2017.
Mike Oetker,
Acting Regional Director, Southeast Region.

Editor's Note: This document was received at the Office of the Federal Register on August 16, 2017.

[FR Doc. 2017-17623 Filed 8-18-17; 8:45 am]

BILLING CODE 4333-15-P